DEPARTMENT OF TRANSPORTATION

14 CFR Part 73

[Airspace Docket No. 00-AGL-20]

RIN 2120-AA66

Realignment to Restricted Area R-6901A Fort McCoy; WI

AGENCY: Federal Aviation Administration (FAA), DOT.

ACTION: Final rule.

SUMMARY: This action realigns Restricted Area R-6901A Fort McCoy, WI. Specifically, this action realigns the southwestern boundary of R-6901A. The boundaries of R-6901B remain unchanged. The FAA is taking this action at the request of the United States Army (USA).

EFFECTIVE DATE: 0901 UTC, October 5, 2000.

FOR FURTHER INFORMATION CONTACT: Bil Nelson, Airspace and Rules Division, ATA-400, Office of Air Traffic Airspace Management, Federal Aviation Administration, 800 Independence Avenue, SW., Washington, DC 20591; telephone: (202) 267-8783.

SUPPLEMENTARY INFORMATION:

Background

R-6901A was established to support training in the firing of long and short range weapons, and aircraft/helicopter training operations. Recently, the FAA conducted a review of non-precision standard instrument approach procedures (SIAP's) within the United States. This review revealed that a portion of the existing R-6901A infringes upon protected airspace for the SIAP serving the Sparta/Fort McCoy Airport, WI. Current air traffic control procedures require that non-participating aircraft be separated from the boundary of an active restricted area containing aircraft operations by a minimum of three nautical miles. In addition, coordination with the using agency for R-6901A found that the firing points formerly located in the southwest portion of R-6901A are closed permanently. Therefore, the using agency no longer has the requirement for restricted airspace in the southwest portion of R-6901A. As a result, it is necessary to realign the boundary of R-6901A to the northeast to release airspace no longer required for military purposes, and to more efficiency manage air traffic serving the Sparta/Fort McCoy Airport.

The Rule

This amendment to 14 CFR part 73 realigns R-6901A Fort McCoy, WI. Specifically, this action realigns the southwestern boundary of R-6901A. This action is being taken to limit the incursion of R-6901A on the protected airspace area of the published SIAP into Fort McCoy. The boundaries of R-6901B remain unchanged. A side benefit of this action returns airspace to the users of the navigable airspace in the vicinity northeast of Angelo, WI. The FAA is taking this action at the request of the USA. Because this action reduces restricted airspace, I find that notice and public procedure under 5 U.S.C. 553(b) are unnecessary.

Section 73.69 of 14 CFR part 73 was republished in FAA Order 7400.8G, dated September 1, 1999.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

Environmental Review

This action reduces restricted airspace. The rule contains no changes to air traffic control procedures or routes. Therefore, the FAA has determined that this action is not subject to environmental assessments and procedures in accordance with FAA Order 1050.1D, “Policies and Procedures for Considering Environmental Impacts,” and the National Environmental Policy Act.

List of Subjects on 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.69 [Amended]

2. § 73.69 is amended as follows:

* * * * *

R-6901A Fort McCoy, WI [Amended]

By removing the present boundaries and substituting the following: Boundaries: Beginning at lat. 44°08′40″N., long. 90°44′20″W.; to lat. 44°08′40″N., long. 90°40′22″W.; to lat. 44°09′36″N., long. 90°40′22″W.; to lat. 44°09′36″N., long. 90°36′50″W.; to lat. 44°00′10″N., long. 90°36′41″W., then West along Wisconsin State Highway 21; to lat. 44°00′10″N., long. 90°37′32″W.; to lat. 44°01′45″N., long. 90°44′31″W.; to the point of the beginning.

* * * * *

Issued in Washington, DC, on August 9, 2000.
Reginald C. Matthews,
Manager, Airspace and Rules Division.

[FR Doc. 00-20942 Filed 8-16-00; 8:45 am]

BILLING CODE 4910-13-P